DEPARTMENT OF LABOR

Office of the Secretary

Submission for OMB Review: Comment Request

September 10, 2007.

The Department of Labor (DOL) hereby announces the submission the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Comments should be sent to Office of Information and Regulatory Affairs, Attn: Carolyn Lovett, OMB Desk Officer for the Employment Standards Administration (ESA), Office of Management and Budget, Room 10235, Washington, DC 20503, Telephone: 202-395-7316 / Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Application for Approval of a Representative's Fee in Black Lung Claim Proceedings Conducted by the U.S. Department of Labor.

OMB Control Number: 1215-0171.

Estimated Number of Respondents: 285.

Estimated Total Burden Hours: 200.

Affected Public: Private Sector: Business or other for-profits.

Description: The purpose of the CM-972 is to collect pertinent data to determine if the representative's services and the amounts charged can be paid under the Black Lung Benefits Act.

Agency: Employment Standards Administration.

Type of Review: Extension without change of currently approved collection.

Title: EO 13201—Notice of Employee Rights Concerning Payment of Union Dues or Fees.

OMB Control Number: 1215-0203.

Estimated Number of Respondents: 30.

Estimated Total Burden Hours: 182.

Affected Public: Private Sector: Business or other for-profits and Not-for-profit institutions.

Description: Pursuant to EO 13201, the purpose of the regulation is to mandate that government contractors and subcontractors post a notice informing their employees that they cannot be required to be members of a union to keep their jobs; that the law permits a union and an employer to enter into a union-security agreement that requires employees to pay dues or fees to the union; and that, even where such agreements exist, employees who are not union members can be required to pay only their share of union costs relating to activities that are germane to the union's representational purposes. The notice also provides a general description of the remedies to which employees may be entitled if these rights have been violated, and provides contact information for further information about those rights and remedies. The information collection encompasses two aspects of the regulations. The first provision is section 470.11 which provides that an employee of a covered contractor may file a written complaint alleging that the contractor has failed to post the employee notice as required by the Executive Order and/or has failed to include the employee notice clause in nonexempt subcontracts or purchase orders. The second provision is section 470.4(d) which provides that contractors may make a written request to the Deputy Assistant Secretary for Labor-Management Programs for a waiver to the posting requirements with respect to any of the contractor's facilities that are in all respects separate and distinct from activities of the contractor related to the performance of a contract.

Darrin A. King,
Acting Departmental Clearance Officer.

[FR Doc. E7-18070 Filed 9-12-07; 8:45 am]

BILLING CODE 4510-CN-P